DEPARTMENT OF AGRICULTURE

Forest Service

Notice of Proposed New Fee Sites

AGENCY: Forest Service, Agriculture (USDA).

ACTION: Notice of proposed new fee sites.

SUMMARY: The Sequoia National Forest is proposing to charge new fees at several recreation sites listed in SUPPLEMENTARY INFORMATION of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Sequoia National Forest, 1839 S Newcomb, Porterville, California 93257.

FOR FURTHER INFORMATION CONTACT: Karen Miller, Public Services Staff Officer, 559-784-1500 or karen.miller@usda.gov.

SUPPLEMENTARY INFORMATION: The Federal Lands Recreation Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, Troy Meadow Group Campground is proposed at $90 per night. In addition, this proposal would implement a new fee at Bonita Cabin, for $90 per night.

New fees would provide increased visitor opportunities, as well as increased staffing to address operations and maintenance needs and enhance customer service. Once public involvement is complete, these new fees will be reviewed by a Recreation Resource Advisory Committee prior to a final decision and implementation. Advanced reservations for campgrounds and cabins will be available through www.recreation.gov or by calling 877-444-6777. The reservation service charges an $8.00 fee for reservations.

Dated: Novermber 3, 2022.
Jacqueline Emanuel,
Associate Deputy Chief, National Forest System.

[FR Doc. 2022-24363 Filed 11-7-22; 8:45 am]

BILLING CODE 3411-15-P